DEPARTMENT OF COMMERCE

National Oceanic and Atmospheric Administration

[I.D. 052104E]

Proposed Information Collection; Comment Request; Dr. Nancy Foster Scholarship Program

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before July 26, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Ruth Moore, N/MB3, SSMC4, Room 13108, 1305 East-West Highway, Silver Spring, MD 20910-3282 (phone 301-713-3050, ext. 169).

SUPPLEMENTARY INFORMATION:

I. Abstract

The Dr. Nancy Foster Scholarship Program recognizes outstanding scholarship by providing financial support to graduate students pursuing masters and doctoral degrees in the areas of marine biology, oceanography, and maritime archaeology. The applicants must submit documentation that NOAA uses to select candidates, including three letters of recommendation. Persons receiving scholarships will be required to submit certain reports and other information detailed below.

II. Method of Collection

Respondents meet solicitation or award requirements with paper submissions. Electronic submissions are being considered. Applicants submit form CD-346 if they are chosen for the program.

III. Data

OMB Number: 0648-0432.

Form Number: CD-346.

Type of Review: Regular submission.

Affected Public: Individuals or households.

Estimated Number of Respondents: 1,000.

Estimated Time Per Response: 5 hours per application; 45 minutes for a letter of recommendation; 15 minutes for an employment/non-employment certification; 15 minutes for a Selective Service Statement from a male awardee; 30 minutes for an academic progress report from the applicant; 30 minutes for an annual progress report from the awardee's school advisor; 30 minutes for an annual financial request; and 90 minutes for a biography and photo from each awardee.

Estimated Total Annual Burden Hours: 1,766.

Estimated Total Annual Cost to Public: $1,300.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 19, 2004.
Gwellnar Banks,
Management Analyst, Office of the Chief Information Officer.

[FR Doc. 04-11911 Filed 5-25-04; 8:45 am]

BILLING CODE 3510-NK-S